DEPARTMENT OF COMMERCE

Foreign-Trade Zones Board

[Order No. 2115]

Reorganization of Foreign-Trade Zone 114 Under Alternative Site Framework Peoria, Illinois

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Board to grant to qualified corporations the privilege of establishing foreign-trade zones in or adjacent to U.S. Customs and Border Protection ports of entry;

Whereas, the Board adopted the alternative site framework (ASF) (15 CFR 400.2(c)) as an option for the establishment or reorganization of zones;

Whereas, the Economic Development Council, Inc., grantee of Foreign-Trade Zone 114, submitted an application to the Board (FTZ Docket B-1-2021, docketed January 8, 2021) for authority to reorganize under the ASF with a service area of Peoria, Cass, Champaign, Dewitt, Ford, Fulton, Knox, Livingston, Logan, Macon, Marshall, Mason, McDonough, McLean, Menard, Piatt, Putnam, Sangamon, Schuyler, Stark, Tazewell, Woodford Counties and portions of Bureau and LaSalle Counties, Illinois, in and adjacent to the Peoria Customs and Border Protection port of entry, FTZ 114's existing Sites 7 and 8 would be categorized as magnet sites, existing Site 9 would be removed from the zone, existing Sites 1, 2, 4, 5 and 6 would be categorized as usage-driven sites, and the grantee proposes an initial ASF Subzone with three sites (Subzone 114H);

Whereas, notice inviting public comment was given in the Federal Register 86 FR 3117, January 14, 2021) and the application has been processed pursuant to the FTZ Act and the Board's regulations; and,

Whereas, the Board adopts the findings and recommendations of the examiner's report, and finds that the requirements of the FTZ Act and the Board's regulations are satisfied;

Now, therefore, the Board hereby orders:

The application to reorganize FTZ 114 under the ASF is approved, subject to the FTZ Act and the Board's regulations, including Section 400.13, to the Board's standard 2,000-acre activation limit for the zone, to an ASF sunset provision for magnet sites that would terminate authority for Sites 7 and 8 if not activated within five years from the month of approval, and to an ASF sunset provision for subzone/usage-driven sites that would terminate authority for Sites 1, 2, 4, 5 and 6 as well as Sites 1-3 of Subzone 114H if no foreign-status merchandise is admitted for a bona fide customs purpose within three years from the month of approval.

Dated: July 26, 2021.
Christian B. Marsh,
Acting Assistant Secretary for Enforcement and Compliance, Alternate Chairman, Foreign-Trade Zones Board.

[FR Doc. 2021-16251 Filed 7-29-21; 8:45 am]

BILLING CODE 3510-DS-P